DEPARTMENT OF TRANSPORTATION

Federal Aviation Administration

14 CFR Part 39

[Docket No. FAA-2014-0656; Directorate Identifier 2013-NM-224-AD; Amendment 39-18295; AD 2015-21-03]

RIN 2120-AA64

Airworthiness Directives; Airbus Airplanes

AGENCY: Federal Aviation Administration (FAA), Department of Transportation (DOT).

ACTION: Final rule; removal.

SUMMARY: We are removing Airworthiness Directive (AD) 2010-08-08, which applied to certain Airbus Model A330-243, -341, -342, and -343 airplanes. AD 2010-08-08 required deactivating the water scavenge automatic operation and revising the Limitations section of the airplane flight manual (AFM). We are also removing AD 2011-06-04, which applied to certain Airbus Model A330-243F airplanes. AD 2011-06-04 required revising the Limitations section of the AFM. We issued ADs 2010-08-08 and 2011-06-04 to prevent fuel flow restriction, caused by ice, resulting in a possible engine surge or stall condition, and the engine being unable to provide the commanded thrust. Since we issued AD 2010-08-08 and AD 2011-06-04, we received new data indicating that the water scavenge system (WSS) operation does not induce any risk of fuel feed system (including the engine) blockage by ice on the pipework or pump inlets. We have also determined that the risk of fuel flow restriction by ice at the fuel oil heat exchanger (FOHE) interface on airplanes equipped with Rolls-Royce Trent 700 engines is now addressed by a redesigned FOHE, which incorporates enhanced anti-icing and de-icing performance.

DATES: This AD becomes effective November 23, 2015.

ADDRESSES: You may examine the AD docket on the Internet at http://www.regulations.gov/#!docketDetail;D=FAA-2014-0656; or in person at the Docket Management Facility, U.S. Department of Transportation, Docket Operations, M-30, West Building Ground Floor, Room W12-140, 1200 New Jersey Avenue SE., Washington, DC.

For service information identified in this AD, contact Airbus SAS, Airworthiness Office—EAL, 1 Rond Point Maurice Bellonte, 31707 Blagnac Cedex, France; telephone: +33 5 61 93 36 96; fax: +33 5 61 93 45 80; email: airworthiness.A330-A340@airbus.com; Internet http://www.airbus.com. You may view this referenced service information at the FAA, Transport Airplane Directorate, 1601 Lind Avenue SW., Renton, WA. For information on the availability of this material at the FAA, call 425-227-1221.

FOR FURTHER INFORMATION CONTACT: Vladimir Ulyanov, Aerospace Engineer, International Branch, ANM-116, Transport Airplane Directorate, FAA, 1601 Lind Avenue SW., Renton, WA 98057-3356; telephone: 425-227-1138; fax: 425-227-1149.

SUPPLEMENTARY INFORMATION:

Discussion

We issued a notice of proposed rulemaking (NPRM) to amend 14 CFR part 39 by adding an AD that would apply to certain Airbus Model A330-243, -243F, -341, -342, and -343 airplanes. The NPRM published in the Federal Register on October 2, 2014 (79 FR 59468). The NPRM proposed to remove AD 2010-08-08, Amendment 39-16263 (75 FR 19196, April 14, 2010), and AD 2011-06-04, Amendment 39-16628 (76 FR 13075, March 10, 2011).

The European Aviation Safety Agency (EASA), which is the Technical Agent for the Member States of the European Union, has issued EASA AD 2010-0132-CN, dated October 14, 2013 (referred to after this as the Mandatory Continuing Airworthiness Information, or “the MCAI”), to cancel EASA AD 2010-0132R1, dated June 10, 2013, which superseded EASA AD 2010-0132, dated June 28, 2010. The requirements of FAA AD 2010-08-08, Amendment 39-16263 (75 FR 19196, April 14, 2010), and AD 2011-06-04, Amendment 39-16628 (76 FR 13075, March 10, 2011), correspond to EASA AD 2010-0132. The MCAI states:

During an in-service event, the flight crew of a Trent 700 powered A330 aeroplane reported a temporary Engine Pressure Ratio (EPR) shortfall on engine 2 during the takeoff phase of the flight. The ENG STALL warning was set. The flight crew followed the standard procedures which included reducing throttle to idle. The engine recovered and provided the demanded thrust level for the remainder of the flight.

Data analysis confirmed a temporary fuel flow restriction and subsequent recovery, and indicated that also engine 1 experienced a temporary fuel flow restriction shortly after the initial event on engine 2, again followed by a full recovery. The engine 1 EPR shortfall was insufficient to trigger any associated warning and was only noted through analysis of the flight data. No flight crew action was necessary to recover normal performance on this engine. The remainder of the flight was uneventful.

Based on industry-wide experience, the investigation of the event focused on the possibility for ice to temporarily restrict the fuel flow. While no direct fuel system fault was identified, the operation of the water scavenge system (WSS) at Rib 3 was considered to have been a contributory factor.

Prompted by these findings, EASA issued [EASA] Emergency AD 2010-0042-E [http://ad.easa.europa.eu/ad/2010-0042-E] [which corresponds to FAA AD 2010-08-08, Amendment 39-16263 (75 FR 19196, April 14, 2010] to require deactivation of the automatic Standby Fuel Pump Scavenge System and to prohibit dispatch of an aeroplane with one main fuel pump inoperative.

Subsequently, EASA issued [EASA] AD 2010-0132 which superseded EASA AD 2010-0042-E, retaining its requirements, to expand the applicability to the newly certified model A330-243F [which corresponds to FAA AD 2011-06-04, Amendment 39-16628 (76 FR 13075, March 10, 2011, for the A330-243F requirements]. EASA AD 2010-0132 was later revised to remove the dispatch restriction with one main fuel pump inoperative.

Since EASA AD 2010-0132R1 was issued, extensive fuel system icing risk investigations testing was conducted by Airbus and Rolls-Royce, the results of which confirmed that the Rib 3 WSS operation does not induce any risk of fuel feed system (including the engine) blockage by ice accreted on the pipework and/or pump inlets. In addition, it was demonstrated that the risk of fuel flow restriction by ice at the Fuel Oil Heat Exchanger (FOHE) interface on aeroplanes equipped with Trent 700 engines is now adequately addressed by introduction of a re-designed FOHE, more tolerant to the release of ice (modification 200218). The modified FOHE (incorporating enhanced anti-icing and de-icing performance) is required to be installed on all Trent 700 engines through EASA AD 2009-0257 [http://ad.easa.europa.eu/ad/2009-0257] [which corresponds to FAA AD 2010-07-01, Amendment 39-16244 (75 FR 15326, March 29, 2010)].

Previously, the operation of the WSS at Rib 3 was no longer considered as a main contributory factor on ice build-up and subsequent release of ice into the fuel system. Based on the latest information, the deactivation of the automatic Standby Fuel Pump Scavenge System is no longer required.

For the reasons described above, this Notice cancels EASA AD 2010-0132R1.

You may examine the MCAI in the AD docket on the Internet at http://www.regulations.gov/#!documentDetail;D=FAA-2014-0656-0004.

Comments

We gave the public the opportunity to participate in developing this AD. We received no comments on the NPRM (79 FR 59468, October 2, 2014), or on the determination of the cost to the public.

Conclusion

We reviewed the available data and determined that air safety and the public interest require adopting this AD as proposed except for minor editorial changes. We have determined that these minor changes:

• Are consistent with the intent that was proposed in the NPRM (79 FR 59468, October 2, 2014) for correcting the unsafe condition; and

• Do not add any additional burden upon the public than was already proposed in the NPRM (79 FR 59468, October 2, 2014).

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0656; or in person at the Docket Management Facility between 9 a.m. and 5 p.m., Monday through Friday, except Federal holidays. The AD docket contains this AD, the regulatory evaluation, any comments received, and other information. The street address for the Docket Operations office (telephone: 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

(a) Removing Airworthiness Directive (AD) 2010-08-08, Amendment 39-16263 (75 FR 19196, April 14, 2010); and AD 2011-06-04, Amendment 39-16628 (76 FR 13075, March 10, 2011), and

(b) Adding the following new AD:

2015-21-03 Airbus: Amendment 39-18295. Docket No. FAA-2014-0656; Directorate Identifier 2013-NM-224-AD.

(a) Effective Date

This AD becomes effective November 23, 2015.

(b) Affected ADs

This AD removes AD 2010-08-08, Amendment 39-16263 (75 FR 19196, April 14, 2010); and AD 2011-06-04, Amendment 39-16628 (76 FR 13075, March 10, 2011).

(c) Applicability

This AD applies to the airplanes specified in paragraphs (c)(1) and (c)(2) of this AD.

(1) Airbus Model A330-243, -341, -342, and -343 airplanes, certificated in any category, all manufacturer serial numbers equipped with Rolls-Royce Trent 700 engines, on which Airbus Modification 56966MP16199 has been embodied in production or Airbus Service Bulletin A330-28-3105 has been embodied in service.

(2) Airbus Model A330-243F airplanes, certificated in any category, all manufacturer serial numbers on which Airbus Modification 56966H16199 has been embodied in production or Airbus Service Bulletin A330-28-3105 has been embodied in service.

Issued in Renton, Washington, on October 6, 2015.
Jeffrey E. Duven,
Manager, Transport Airplane Directorate, Aircraft Certification Service.

[FR Doc. 2015-26219 Filed 10-16-15; 8:45 am]

BILLING CODE 4910-13-P